DEPARTMENT OF THE INTERIOR

Fish and Wildlife Service

[FWS-R8-ES-2008-N0082; 1112-0000-81420-F2]

East Bay Municipal Utility District Habitat Conservation Plan, East Bay Watershed Lands, Alameda and Contra Costa Counties, CA

AGENCY: Fish and Wildlife Service, Interior.

ACTION: Notice of availability: Proposed low-effect habitat conservation plan; request for comment.

SUMMARY: The East Bay Municipal Utility District, Oakland (EBMUD or applicant) has applied to the Fish and Wildlife Service (Service) for a 30-year incidental take permit for seven species pursuant to section 10(a)(1)(B) of the Endangered Species Act of 1973, as amended (Act) (16 U.S.C. 1531 et seq.). The application addresses the potential for “take” of two listed animals, two listed plants, and three currently unlisted species. The applicant would implement a conservation program to minimize and mitigate the project activities, as described in the East Bay Municipal Utility District Low-Effect East Bay Habitat Conservation Plan (plan). We request comments on the applicant's application and plan, and the preliminary determination that the plan qualifies as a “low-effect” habitat conservation plan, eligible for a Categorical Exclusion under the National Environmental Policy Act of 1969, as amended (NEPA). We discuss our basis for this determination in our Environmental Action Statement (EAS), which is also available for public review.

DATES: We must receive written comments on or before June 16, 2008.

ADDRESSES: Please address written comments to Sheila Larsen, Conservation Planning Branch, Fish and Wildlife Service, Sacramento Fish and Wildlife Office, 2800 Cottage Way, W-2605, Sacramento, CA 95825. Alternatively, you may send comments by facsimile to (916) 414-6713.

FOR FURTHER INFORMATION CONTACT: Sheila Larsen, or Eric Tattersall, Branch Chief, Conservation Planning Branch, at the address shown above or at 916-414-6600 (telephone).

SUPPLEMENTARY INFORMATION:

Availability of Documents

Copies of the permit application, plan, and EAS can be obtained from the individuals named above (see FOR FURTHER INFORMATION CONTACT). Copies of these documents are available for public inspection, by appointment, during regular business hours, at the Sacramento Fish and Wildlife Office (see ADDRESSES). Documents also are available for public inspection, during regular business hours, at the East Bay Municipal Utility District, Orinda, Natural Resources Department, 500 San Pablo Dam Road, Orinda, CA 94563.

Public Availability of Comments

Before including your address, phone number, e-mail address, or other personal identifying information in your comment, you should be aware that your entire comment—including your personal identifying information—may be made publicly available at any time. While you can ask us in your comment to withhold your personal identifying information from public review, we cannot guarantee that we will be able to do so.

Background Information

Section 9 of the Act (16 U.S.C. 1531 et seq.) and its implementing Federal regulations prohibit the “take” of fish or wildlife species listed as endangered or threatened. “Take” is defined under the Act to include the following activities: To harass, harm, pursue, hunt, shoot, wound, kill, trap, capture or collect listed animal species, or to attempt to engage in such conduct. However, under section 10(a)(1)(B) of the Act, we may issue permits to authorize incidental take of listed species. “Incidental take” is defined by the Act as take that is incidental to, and not the purpose of, carrying out an otherwise lawful activity. Regulations governing incidental take permits for endangered and threatened species, respectively, are in the Code of Federal Regulations at 50 CFR 17.22 and 50 CFR 17.32.

Although take of listed plant species is not prohibited under the Act, and therefore cannot be authorized under an incidental take permit, plant species may be included on a permit in recognition of the conservation benefits provided to them under a habitat conservation plan. All species included on the incidental take permit would receive assurances under the Services' “No Surprises” regulations (50 CFR 17.22(b)(5) and 17.32(b)(5).

The applicant seeks an incident take permit for covered activities within 28,200 acres of watershed lands owned by EBMUD located in Contra Costa and Alameda Counties, California. EBMUD is requesting permits for take of two federally listed animal species, both listed as threatened: California red-legged frog (Rana aurora draytonii) and Alameda whipsnake (Masticophis lateralis euryxanthus). The two federally listed plant species, both listed as threatened, are Santa Cruz tarplant (Holocarpha macradenia) and pallid manzanita (Arctostaphylos pallida). The proposed covered species also include three wildlife species that are not currently listed under the Act—western pond turtle (Clemmys marmorata), pallid bat (Antrozous pallidus), and an unlisted resident population of rainbow trout (O. mykiss)—should these species be listed during the life of the permit. These rainbow trout are genetically identical to steelhead, a fish species federally listed as threatened. However, these trout are landlocked above Upper San Leandro Dam, and are considered rainbow trout, not steelhead. Collectively, all of these species are referred to as “covered species” in the plan.

EBMUD owns and manages watershed lands in Alameda and Contra Costa Counties, located in the San Francisco Bay Area of California. These lands surround five reservoirs (Briones, San Pablo, Upper San Leandro, Chabot, and Lafayette) and a portion of one basin that does not have a reservoir (Pinole Valley). EBMUD reservoirs store drinking water and emergency water supplies for 1.3 million people residing in Alameda and Contra Costa Counties.

Covered activities include the following watershed management and maintenance activities: A biodiversity program; forestry program; livestock grazing; agricultural operations; fire and fuels management; a trench spoils storage and removal program for the north and south watershed areas; maintenance activities related to recreational activities; and permitted watershed access on fire roads and designated trails. The implementation of mitigation measures such as creek restoration activities are also included as covered activities. The covered activities are described more fully in the plan, and additional information on EBMUD management activities can be found in their East Bay Watershed Master Plan, Fire Management Plan, and EBMUD's Range Resource Management Plan. EBMUD's watershed planning documents are available at this link: http://www.ebmud.com/water_&_environment/environmental_protection/.

The applicant proposes to avoid, minimize, and mitigate the effects to the covered species associated with the covered activities by fully implementing the plan. To minimize and mitigate the impacts of the covered activities, the applicant will continue ongoing conservation activities and develop additional measures for the further protection of covered species, if necessary. Minimization measures will include, but are not limited to, seasonal restrictions on when work may be conducted, preconstruction surveys, and temporary removal of covered species from work areas. General mitigation measures will include restoration of disturbed habitat, improved grazing practices, maintenance of stockponds for California red-legged frogs and western pond turtles, riparian restoration, and conversion of non-native forests to native species.

Santa Cruz tarplant is represented by a single experimental population that has not been observed for 10 years. It will be adaptively managed to encourage the re-establishment of this fire-adapted species. Pallid manzanita will not be affected by covered activities, but competition with other species will be reduced through pruning of nearby vegetation. Rainbow trout habitat will be improved through revegetation of affected areas and fencing of creek corridors, and placement of spawning gravel to provide substrate if no spawning is observed on EBMUD lands. Coastal scrub that provides habitat for Alameda whipsnakes will be allowed to encroach into grassland so that the overall amount of this vegetation community does not vary by more than 1 percent due to covered activities. Mitigation measures for pallid bat include maintenance of moderate grazing levels; education of grazing lessees, signage on the known habitat, and installation of bat boxes adjacent to the currently used site.

Alternatives

The Service's proposed action consists approving the applicant's plan and issuance of an incidental take permit for the applicant's Covered Activities. As required by the Act, the applicant's plan considers alternatives to the take under the proposed action. The plan considers the environmental consequences of one alternative to the proposed action, the No Action alternative. Under the No Action Alternative, no permit would be issued and projects would be reviewed and permitted on an individual basis. The proposed action alternative consists of issuance of the incidental take permit for the applicant's proposed project, which includes the activities described above.

National Environmental Policy Act

As described in our EAS, we have made the preliminary determination that approval of the proposed plan and issuance of the permit would qualify as a categorical exclusion under NEPA, as provided by Federal regulations (40 CFR 1500, 5(k), 1507.3(b)(2), 1508.4) and the Department of the Interior Manual (516 DM 2 and 516 DM 8). Our EAS found that the proposed plan qualifies as a “low-effect” habitat conservation plan, as defined by the Service's Habitat Conservation Planning Handbook (November 1996). Determination of low-effect habitat conservation plans is based on the following three criteria: (1) Implementation of the proposed plan would result in minor or negligible effects on federally listed, proposed, and candidate species and their habitats; (2) implementation of the proposed plan would result in minor or negligible effects on other environmental values or resources; and (3) impacts of the plan, considered together with the impacts of other past, present, and reasonably foreseeable similarly situated projects, would not result, over time, in cumulative effects to environmental values or resources that would be considered significant. Based upon the preliminary determinations in the EAS, we do not intend to prepare further NEPA documentation. We will consider public comments when making the final determination on whether to prepare an additional NEPA document on the proposed action.

We provide this notice pursuant to section 10(c) of the Act and the NEPA public-involvement regulations (40 CFR 1500.1(b), 1500.2(d), and 1506.6). We will evaluate the permit application, including the plan, and comments submitted thereon to determine whether the application meets the requirements of section 10(a) of the Act. If the requirements are met, we will issue a permit to the applicant for the incidental take of the California red-legged frog, Alameda whipsnake, western pond turtle, pallid bat, rainbow trout, Santa Cruz tarplant, and pallid manzanita, from the implementation of the covered activities described in the plan, or from mitigation conducted as part of this plan. We will make the final permit decision no sooner than 30 days after the date of this notice.

Dated: May 12, 2008.
Susan K. Moore,
Field Supervisor, Sacramento Fish and Wildlife Office, Sacramento, California.

[FR Doc. E8-10994 Filed 5-15-08; 8:45 am]

BILLING CODE 4310-55-P